RAILROAD RETIREMENT BOARD

Sunshine Act Meeting

Notice is hereby given that the Railroad Retirement Board will hold a meeting on June 21, 2000, 9 a.m., at the Board's meeting room on the 8th floor of its headquarters building, 844 North Rush Street, Chicago, Illinois, 60611. The agenda for this meeting follows:

(1) Report on the Quality Audit of the Railroad Retirement Board Occupational Disability Process

(2) Medicare Transition

The entire meeting will be open to the public. The person to contact for more information is Beatrice Ezerski, Secretary to the Board, Phone No. 312-751-4920.

Dated: June 12, 2000.
Beatrice Ezerski,
Secretary to the Board.

[FR Doc. 00-15244 Filed 6-13-00; 10:25 am]

BILLING CODE 7905-01-M